ENVIRONMENTAL PROTECTION AGENCY

[EPA-HQ-OPP-2014-0233; FRL-9908-77]

Office of Pesticide Programs; Notice of Public Meeting

AGENCY: Environmental Protection Agency (EPA).

ACTION: Notice.

SUMMARY: EPA's Office of Pesticide Programs, the U.S. Department of Agriculture (USDA), and the U.S. Fish and Wildlife Service and the National Marine Fisheries Service (collectively, the Services), are holding a one day workshop to provide a forum for stakeholders to offer scientific and technical feedback on the interim approaches that were issued in November 2013 by the EPA, USDA, and the Services in response to the National Academy of Sciences (NAS) report entitled, “Assessing Risks to Endangered and Threatened Species from Pesticides”. The workshop is an opportunity for stakeholders and agencies to continue their dialogue on the technical aspects of implementing the NAS recommendations, building upon public meetings held in November and December 2013 and the implementation of the enhanced stakeholder engagement process that was finalized in March 2013. The workshop is not designed to, or intended to be a decision-making forum; consensus will not be sought or developed at the meeting. This public meeting furthers the agencies' goal of developing a consultation process for pesticide impacts on listed species that is efficient, inclusive, and transparent.

DATES: The meeting will be held on April 22, 2014 from 9:00 a.m. to 5:00 p.m.

Requests to participate in the meeting must be received on or before April 15, 2014. To request accommodation of a disability, please contact the person listed under FOR FURTHER INFORMATION CONTACT, preferably at least 10 days prior to the meeting, to give EPA as much time as possible to process your request.

ADDRESSES: The meeting will be held at Office of Pesticide Programs, One Potomac Yard, 2777 S. Crystal Drive, Arlington, Virginia 22202 in the 1st floor conference room. Webinar and teleconference information will be provided to participants requesting access via webinar and telephone.

Requests to participate in the meeting, identified by docket identification (ID) number EPA-HQ-OPP-2014-0233, may be submitted to the person listed under FOR FURTHER INFORMATION CONTACT.

FOR FURTHER INFORMATION CONTACT: Catherine Eiden, Pesticide Re-evaluation Division (7508P) and the Environmental Fate and Effects Division (7507P), Office of Pesticide Programs, Environmental Protection Agency, 1200 Pennsylvania Ave. NW., Washington, DC 20460-0001; telephone number: (703) 305-7887; fax number: (703) 308-8005; email address: eiden.catherine@epa.gov.

SUPPLEMENTARY INFORMATION:

I. General Information

A. Does this action apply to me?

You may be potentially affected by this action if you develop, manufacture, formulate, sell, and/or apply pesticide products, and if you are interested in the potential impacts of pesticide use on listed species. The following list of North American Industrial Classification System (NAICS) codes is not intended to be exhaustive, but rather provides a guide to help readers determine whether this document applies to them.

Potentially affected entities may include:

• Crop production (NAICS code 111)

• Animal production (NAICS code 112)

• Food manufacturing (NAICS code 311)

• Pesticide manufacturing (NAICS code 32532)

• Other stakeholders who have an interest in potential impacts of pesticides on listed species

B. How can I get copies of this document and other related information?

The docket for this action, identified by docket identification (ID) number EPA-HQ-OPP-2014-0233, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

The workshop is an opportunity for stakeholders and agencies to continue their dialogue on the technical aspects of implementing the NAS recommendations, building upon public meetings held in November and December 2013 and the implementation of the enhanced stakeholder engagement process that was finalized in March 2013. The workshop is not designed, or intended to be a decision-making forum; consensus will not be sought, or developed at the meeting.

Stakeholders will be asked to provide scientific and technical information that could potentially be used by the agencies to inform various scientific determinations that will be made during the course of evaluation pesticides, including:

1. Step 1, otherwise known as the “May Affect” threshold identified by NAS;

2. Systematic methods for implementing “Weight of Evidence” analysis that consider both quantitative and qualitative data; and

3. The consideration of uncertainty in the scientific assessment process.

While the focus of this public meeting is on the three topics noted in this unit, comments on all aspects of the materials previously provided to the public will be accepted. The agencies' interim approach document entitled, “Interagency Approach for Implementation of the National Academy of Sciences Report” (11/13/2013) and the presentation materials from the November 2013 stakeholder workshop are available at the following Web site: http://www.epa.gov/oppfead1/endanger/2013/nas.html.

In addition to the scientific and technical information presented by stakeholders, representatives from Federal agencies will join the dialogue to ask clarifying questions of the presenters and to respond to questions regarding the pesticide registration process and Endangered Species Act consultation. The agencies see this forum as an integral component of the stakeholder engagement process developed for pesticide consultations and contributes to the agencies' commitment to adapt and refine the interim approaches as we progress through the initial consultations.

III. How can I request to participate in this meeting?

You may submit a request to participate in this meeting to the person listed under FOR FURTHER INFORMATION CONTACT. Do not submit any information in your request that is considered CBI. Requests to participate in the meeting, identified by docket ID number EPA-HQ-OPP-2014-0233, must be received on or before April 15, 2014.

List of Subjects

Environmental protection, FIFRA/ESA consultations, Interim approaches, Pesticides, Threatened and endangered species.

Dated: March 25, 2014.
Michael Goodis,
Acting Director, Pesticide Re-evaluation Division, Office of Pesticide Programs.

[FR Doc. 2014-07102 Filed 4-1-14; 8:45 am]

BILLING CODE 6560-50-P